DEPARTMENT OF LABOR

Employment and Training Administration

[TA-W-37,862]

K & R Sportswear Now Known as K & R Kids, LLC, Spring Hope, NC; Amended Certification Regarding Eligibility To Apply for Worker Adjustment Assistance

In accordance with section 223 of the Trade Act of 1974 (19 U.S.C. 2273) the Department of Labor issued a Certification of Eligibility to Apply for Worker Adjustment Assistance on July 10, 2000, applicable to workers of K & R Sportswear, Spring Hope, North Carolina. The notice was published in the Federal Register on August 1, 2000 (65 FR 46954).

At the request of the company, the Department reviewed the certification for workers of the subject firm. The workers are engaged in the production of children's swimwear. The company reports that in August-September, 2000, K & R Sportswear was purchased by Amerex Group, Inc. and became known as K & R Kids, LLC and continues to layoff workers.

Accordingly, the Department is amending the certification determination to correctly identify the new ownership to read K & R Sportswear now known as K & R Kids, LLC, Spring Hope, North Carolina.

The intent of the Department's certification is to include all workers of K & R Sportswear now known as K & R Kids, LLC who were adversely affected by increased imports of children's swimwear.

The amended notice applicable to TA-W-37,862 is hereby issued as follows:

“All workers of K & R Sportswear, now known as K & R Kids LLC, Spring Hope, North Carolina who became totally or partially separated from employment on or after June 21, 1999, through July 10, 2002, are eligible to apply for adjustment assistance under section 223 of the Trade Act of 1974.”

Signed at Washington, DC this 16th day of July, 2001.
Linda G. Poole,
Certifying Officer, Division of Trade Adjustment Assistance.

[FR Doc. 01-18624 Filed 7-25-01; 8:45 am]

BILLING CODE 4510-30-M